DEPARTMENT OF ENERGY

Federal Energy Regulatory Commission

Combined Notice of Filings #1

Take notice that the Commission received the following electric corporate filings:

Docket Numbers: EC15-4-000.

Applicants: AL Sandersville, LLC, Effingham County Power, LLC, MPC Generating, LLC, Walton County Power, LLC, Washington County Power, LLC.

Description: Application for Authorization for Disposition of Jurisdictional Facilities and Request for Expedited Action of AL Sandersville, LLC, et. al.

Filed Date: 10/8/14.

Accession Number: 20141008-5218.

Comments Due: 5 p.m. ET 10/29/14.

Docket Numbers: EC15-5-000.

Applicants: American Transmission Company LLC.

Description: Application of ATCLLC for Authority to Acquire Transmission Facilities Under Section 203 of the FPA.

Filed Date: 10/9/14.

Accession Number: 20141009-5085.

Comments Due: 5 p.m. ET 10/30/14.

Take notice that the Commission received the following electric rate filings:

Docket Numbers: ER12-701-002.

Applicants: New York Independent System Operator, Inc.

Description: Compliance filing per 35: Compliance filing—set effective date for NYISO/ISONE CTS provisions to be effective 10/22/2014.

Filed Date: 10/8/14.

Accession Number: 20141008-5142.

Comments Due: 5 p.m. ET 10/29/14.

Docket Numbers: ER14-552-001.

Applicants: New York Independent System Operator, Inc.

Description: Compliance filing per 35: NYISO filing re: 2-week advance notice for CTS implementation/effective date to be effective 10/22/2014.

Filed Date: 10/8/14.

Accession Number: 20141008-5143.

Comments Due: 5 p.m. ET 10/29/14.

Docket Numbers: ER14-2552-001.

Applicants: New York Independent System Operator, Inc.

Description: Compliance filing per 35: Compliance filing—set effective date for NYISO CTS provisions to be effective 10/22/2014.

Filed Date: 10/8/14.

Accession Number: 20141008-5144.

Comments Due: 5 p.m. ET 10/29/14.

Docket Numbers: ER14-2570-001.

Applicants: Southwest Power Pool, Inc.

Description: Compliance filing per 35: Order 792 Small Generator Interconnection Amended Compliance Filing to be effective 8/1/2014.

Filed Date: 10/8/14.

Accession Number: 20141008-5165.

Comments Due: 5 p.m. ET 10/15/14.

Docket Numbers: ER14-2587-001.

Applicants: Black Hills Power, Inc.

Description: Compliance filing per 35: Additional Changes to Pending Order No. 792 Compliance Filing to be effective 8/5/2014.

Filed Date: 10/8/14.

Accession Number: 20141008-5199.

Comments Due: 5 p.m. ET 10/29/14.

Docket Numbers: ER14-2588-001.

Applicants: Black Hills/Colorado Electric Utility Co.

Description: Compliance filing per 35: Additional Changes to Pending Order No. 792 Compliance Filing to be effective 8/5/2014.

Filed Date: 10/8/14.

Accession Number: 20141008-5191.

Comments Due: 5 p.m. ET 10/29/14.

Docket Numbers: ER14-2589-001.

Applicants: Cheyenne Light, Fuel and Power Company.

Description: Compliance filing per 35: Additional Changes to Pending Order No. 792 Compliance Filing to be effective 8/5/2014.

Filed Date: 10/8/14.

Accession Number: 20141008-5194.

Comments Due: 5 p.m. ET 10/29/14.

Docket Numbers: ER14-2825-001.

Applicants: Backbone Mountain Windpower LLC.

Description: Compliance filing per 35: Backbone Mountain Windpower, LLC Amendment to Order No. 784 Compliance Filing to be effective 9/11/2014.

Filed Date: 10/8/14.

Accession Number: 20141008-5163.

Comments Due: 5 p.m. ET 10/29/14.

Docket Numbers: ER14-2826-001.

Applicants: Bayswater Peaking Facility, LLC.

Description: Compliance filing per 35: Bayswater Peaking Facility, LLC Amendment to Order No. 784 Compliance Filing to be effective 9/11/2014.

Filed Date: 10/8/14.

Accession Number: 20141008-5169.

Comments Due: 5 p.m. ET 10/29/14.

Docket Numbers: ER14-2827-001.

Applicants: Energy Storage Holdings, LLC.

Description: Compliance filing per 35: Energy Storage Holdings, LLC Amendment to Order No. 784 Compliance Filing to be effective 9/11/2014.

Filed Date: 10/8/14.

Accession Number: 20141008-5175.

Comments Due: 5 p.m. ET 10/29/14.

Docket Numbers: ER14-2828-001.

Applicants: FPL Energy Cape, LLC.

Description: Compliance filing per 35: FPL Energy Cape, LLC Amendment to Order No. 784 Compliance Filing to be effective 9/11/2014.

Filed Date: 10/8/14.

Accession Number: 20141008-5176.

Comments Due: 5 p.m. ET 10/29/14.

Docket Numbers: ER14-2829-001.

Applicants: FPL Energy Illinois Wind, LLC.

Description: Compliance filing per 35: FPL Energy Illinois Wind, LLC Amendment to Order No. 784 Compliance Filing to be effective 9/11/2014.

Filed Date: 10/8/14.

Accession Number: 20141008-5178.

Comments Due: 5 p.m. ET 10/29/14.

Docket Numbers: ER14-2830-001.

Applicants: FPL Energy Marcus Hook, L.P.

Description: Compliance filing per 35: FPL Energy Marcus Hook, L.P. Amendment to Order No. 784 Compliance Filing to be effective 9/11/2014.

Filed Date: 10/8/14.

Accession Number: 20141008-5179.

Comments Due: 5 p.m. ET 10/29/14.

Docket Numbers: ER14-2831-001.

Applicants: FPL Energy Wyman LLC.

Description: Compliance filing per 35: FPL Energy Wyman, LLC Amendment to Order No. 784 Compliance Filing to be effective 9/11/2014.

Filed Date: 10/8/14.

Accession Number: 20141008-5181.

Comments Due: 5 p.m. ET 10/29/14.

Docket Numbers: ER14-2832-001.

Applicants: FPL Energy Wyman IV LLC.

Description: Compliance filing per 35: FPL Energy Wyman IV, LLC Amendment to Order No. 784 Compliance Filing to be effective 9/11/2014.

Filed Date: 10/8/14.

Accession Number: 20141008-5184.

Comments Due: 5 p.m. ET 10/29/14.

Docket Numbers: ER14-2833-001.

Applicants: Jamaica Bay Peaking Facility, LLC.

Description: Compliance filing per 35: Jamaica Bay Peaking Facility, LLC Amendment to Order No. 784 Compliance Filing to be effective 9/11/2014.

Filed Date: 10/8/14.

Accession Number: 20141008-5186.

Comments Due: 5 p.m. ET 10/29/14.

Docket Numbers: ER14-2836-001.

Applicants: Meyersdale Windpower LLC.

Description: Compliance filing per 35: Meyersdale Windpower LLC Amendment to Order No. 784 Compliance Filing to be effective 9/11/2014.

Filed Date: 10/8/14.

Accession Number: 20141008-5187.

Comments Due: 5 p.m. ET 10/29/14.

Docket Numbers: ER14-2837-001.

Applicants: Mill Run Windpower, LLC.

Description: Compliance filing per 35: Mill Run Windpower, LLC Amendment to Order No. 784 Compliance Filing to be effective 9/11/2014.

Filed Date: 10/8/14.

Accession Number: 20141008-5188.

Comments Due: 5 p.m. ET 10/29/14.

Docket Numbers: ER14-2838-001.

Applicants: NEPM II, LLC.

Description: Compliance filing per 35: NEPM II, LLC Amendment to Order No. 784 Compliance Filing to be effective 9/11/2014.

Filed Date: 10/8/14.

Accession Number: 20141008-5189.

Comments Due: 5 p.m. ET 10/29/14.

Docket Numbers: ER14-2839-001.

Applicants: NextEra Energy Seabrook, LLC.

Description: Compliance filing per 35: NextEra Energy Seabrook, LLC Amendment to Order No. 784 Compliance Filing to be effective 9/11/2014.

Filed Date: 10/8/14.

Accession Number: 20141008-5190.

Comments Due: 5 p.m. ET 10/29/14.

Docket Numbers: ER14-2840-001.

Applicants: NextEra Energy Services Massachusetts, LLC.

Description: Compliance filing per 35: NextEra Energy Services Massachusettes, LLC Amend to Order No. 784 Compliance to be effective 9/11/2014.

Filed Date: 10/8/14.

Accession Number: 20141008-5192.

Comments Due: 5 p.m. ET 10/29/14.

Docket Numbers: ER14-2841-001.

Applicants: North Jersey Energy Associates, A Limited Partnership.

Description: Compliance filing per 35: NJEA Amendment to Order No. 784 Compliance Filing to be effective 9/11/2014.

Filed Date: 10/8/14.

Accession Number: 20141008-5193.

Comments Due: 5 p.m. ET 10/29/14.

Docket Numbers: ER14-2842-001.

Applicants: Northeast Energy Associates, A Limited Partnership.

Description: Compliance filing per 35: Northeast Energy Associates, L.P. Amendment to Order No. 784 Compliance Filing to be effective 9/11/2014.

Filed Date: 10/8/14.

Accession Number: 20141008-5195.

Comments Due: 5 p.m. ET 10/29/14.

Docket Numbers: ER14-2843-001.

Applicants: Pennsylvania Windfarms, LLC.

Description: Compliance filing per 35: Pennsylvania Windfarms, LLC Amendment to Order No. 784 Compliance Filing to be effective 9/11/2014.

Filed Date: 10/8/14.

Accession Number: 20141008-5196.

Comments Due: 5 p.m. ET 10/29/14.

Docket Numbers: ER14-2844-001.

Applicants: Somerset Windpower, LLC.

Description: Compliance filing per 35: Somerset Windpower, LLC Amendment to Order No. 784 Compliance Filing to be effective 9/11/2014.

Filed Date: 10/8/14.

Accession Number: 20141008-5197.

Comments Due: 5 p.m. ET 10/29/14.

Docket Numbers: ER14-2845-001.

Applicants: Waymart Wind Farm L.P.

Description: Compliance filing per 35: Waymart Wind Farm, L.P. Amendment to Order No. 784 Compliance Filing to be effective 9/11/2014.

Filed Date: 10/8/14.

Accession Number: 20141008-5198.

Comments Due: 5 p.m. ET 10/29/14.

Docket Numbers: ER14-2857-001.

Applicants: FPL Energy MH50, L.P.

Description: Compliance filing per 35: FPL Energy MH50, L.P. Amendment to Order No. 784 Compliance Filing to be effective 9/11/2014.

Filed Date: 10/8/14.

Accession Number: 20141008-5180.

Comments Due: 5 p.m. ET 10/29/14.

Docket Numbers: ER15-63-000.

Applicants: PJM Interconnection, L.L.C., American Transmission Systems, Incorporated, Pennsylvania Electric Company, The Potomac Edison Company.

Description: § 205(d) rate filing per 35.13(a)(2)(iii): ATSI, Penelec and Potomac Edison submit Service Agreement Nos. 3944 thru 3953 to be effective 12/8/2014.

Filed Date: 10/8/14.

Accession Number: 20141008-5177.

Comments Due: 5 p.m. ET 10/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2014.
Nathaniel J. Davis, Sr.,
Deputy Secretary.

[FR Doc. 2014-24881 Filed 10-17-14; 8:45 am]

BILLING CODE 6717-01-P